DEPARTMENT OF HOMELAND SECURITY

Federal Emergency Management Agency

44 CFR Part 64

[Docket ID FEMA-2010-0003; Internal Agency Docket No. FEMA-8157]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Rhode Island:
Coventry, Town of, Kent County | 440004 | November 21, 1973, Emerg; September 1, 1978, Reg; December 3, 2010, Susp. | Dec. 3, 2010 | Dec. 3, 2010.
East Greenwich, Town of, Kent County | 445397 | July 16, 1971, Emerg; February 9, 1973, Reg; December 3, 2010, Susp. | ......do* | do.
Warwick, City of, Kent County | 445409 | June 19, 1970, Emerg; April 6, 1973, Reg; December 3, 2010, Susp. | ......do | do.
West Greenwich, Town of, Kent County | 440037 | October 10, 1975, Emerg; January 3, 1986, Reg; December 3, 2010, Susp. | ......do | do.
West Warwick, Town of, Kent County | 440007 | September 1, 1972, Emerg; February 1, 1978, Reg; December 3, 2010, Susp. | ......do | do.
Region IV
Tennessee: Woodbury, Town of, Cannon County | 470021 | May 23, 1973, Emerg; September 1, 1977, Reg; December 3, 2010, Susp. | ......do | do.
Region V
Indiana:
Bedford, City of, Lawrence County | 180148 | April 17, 1975, Emerg; September 4, 1987, Reg; December 3, 2010, Susp. | ......do | do.
Lawrence County, Unincorporated Areas | 180441 | June 24, 1993, Emerg; June 1, 1994, Reg; December 3, 2010, Susp. | ......do | do.
Michigan:
Clare, City of, Clare and Isabella Counties | 260629 | August 26, 1975, Emerg; February 5, 1992, Reg; December 3, 2010, Susp. | ......do | do.
Redding, Township of, Clare County | 260382 | June 28, 1979, Emerg; June 17, 1986, Reg; December 3, 2010, Susp. | ......do | do.
Surrey, Township of, Clare County | 261337 | November 24, 2009, Emerg; December 3, 2010, Reg; December 3, 2010, Susp. | ......do | do.
Ohio: Adams County, Unincorporated Areas | 390001 | March 14, 1978, Emerg; February 3, 2003, Reg; December 3, 2010, Susp. | ......do | do.
Manchester, Village of, Adams County | 390002 | October 25, 1974, Emerg; August 1, 1978, Reg; December 3, 2010, Susp. | ......do | do.
Rome, Village of, Adams County | 390003 | February 16, 1977, Emerg; October 18, 1983, Reg; December 3, 2010, Susp. | ......do | do.
Bay Village, City of, Cuyahoga County | 390093 | June 14, 1974, Emerg; December 1, 1977, Reg; December 3, 2010, Susp. | ......do | do.
Beachwood, City of, Cuyahoga County | 390094 | November 26, 1975, Emerg; April 20, 1979, Reg; December 3, 2010, Susp. | ......do | do.
Bedford Heights, City of, Cuyahoga County | 390096 | June 11, 1975, Emerg; September 17, 1980, Reg; December 3, 2010, Susp. | ......do | do.
Bedford, City of, Cuyahoga County | 390095 | July 11, 1975, Emerg; January 2, 1981, Reg; December 3, 2010, Susp. | ......do | do.
Bentleyville, Village of, Cuyahoga County | 390682 | March 24, 1976, Emerg; August 1, 1980, Reg; December 3, 2010, Susp. | ......do | do.
Berea, City of, Cuyahoga County | 390097 | April 21, 1975, Emerg; June 1, 1979, Reg; December 3, 2010, Susp. | ......do | do.
Bratenahl, Village of, Cuyahoga County | 390734 | June 9, 1975, Emerg; June 15, 1981, Reg; December 3, 2010, Susp. | ......do | do.
Brecksville, City of, Cuyahoga County | 390098 | July 11, 1975, Emerg; January 16, 1981, Reg; December 3, 2010, Susp. | ......do | do.
Broadview Heights, City of, Cuyahoga County | 390099 | November 21, 1975, Emerg; March 2, 1979, Reg; December 3, 2010, Susp. | ......do | do.
Brook Park, City of, Cuyahoga County | 390102 | April 21, 1975, Emerg; June 1, 1979, Reg; December 3, 2010, Susp. | ......do | do.
Brooklyn Heights, Village of, Cuyahoga County | 390101 | May 16, 1975, Emerg; June 15, 1981, Reg; December 3, 2010, Susp. | ......do | do.
Brooklyn, City of, Cuyahoga County | 390100 | July 3, 1975, Emerg; June 1, 1979, Reg; December 3, 2010, Susp. | ......do | do.
Chagrin Falls, Village of, Cuyahoga County | 390103 | July 29, 1975, Emerg; July 2, 1980, Reg; December 3, 2010, Susp. | ......do | do.
Cleveland Heights, City of, Cuyahoga County | 390105 | April 11, 1975, Emerg; June 25, 1976, Reg; December 3, 2010, Susp. | ......do | do.
Cleveland, City of, Cuyahoga County | 390104 | July 20, 1973, Emerg; August 1, 1978, Reg; December 3, 2010, Susp. | ......do | do.
Cuyahoga County, Unincorporated Areas | 390766 | October 4, 1979, Emerg; April 2, 1986, Reg; December 3, 2010, Susp. | ......do | do.
Cuyahoga Heights, Village of, Cuyahoga County | 390654 | June 18, 1976, Emerg; June 15, 1981, Reg; December 3, 2010, Susp. | ......do | do.
Euclid, City of, Cuyahoga County | 390107 | July 3, 1975, Emerg; August 17, 1981, Reg; December 3, 2010, Susp. | ......do | do.
Fairview Park, City of, Cuyahoga County | 390108 | June 24, 1975, Emerg; February 4, 1983, Reg; December 3, 2010, Susp. | ......do | do.
Garfield Heights, City of, Cuyahoga County | 390109 | September 18, 1970, Emerg; July 9, 1971, Reg; December 3, 2010, Susp. | ......do | do.
Gates Mills, Village of, Cuyahoga County | 390593 | June 4, 1973, Emerg; April 3, 1978, Reg; December 3, 2010, Susp. | ......do | do.
Glenwillow, Village of, Cuyahoga County | 390735 | March 14, 1978, Emerg; February 18, 1981, Reg; December 3, 2010, Susp. | ......do | do.
Highland Heights, City of, Cuyahoga County | 390110 | November 10, 1976, Emerg; June 1, 1979, Reg; December 3, 2010, Susp. | ......do | do.
Independence, City of, Cuyahoga County | 390111 | July 22, 1975, Emerg; February 18, 1981, Reg; December 3, 2010, Susp. | ......do | do.
Lakewood, City of, Cuyahoga County | 390112 | March 30, 1973, Emerg; February 1, 1978, Reg; December 3, 2010, Susp. | ......do | do.
Lyndhurst, City of, Cuyahoga County | 390113 | May 1, 1975, Emerg; April 23, 1982, Reg; December 3, 2010, Susp. | ......do | do.
Maple Heights, City of, Cuyahoga County | 390114 | July 22, 1975, Emerg; September 17, 1980, Reg; December 3, 2010, Susp. | ......do | do.
Mayfield Heights, City of, Cuyahoga County | 390115 | May 3, 1976, Emerg; June 10, 1980, Reg; December 3, 2010, Susp. | ......do | do.
Middleburg Heights, City of, Cuyahoga County | 390117 | January 20, 1975, Emerg; August 17, 1981, Reg; December 3, 2010, Susp. | ......do | do.
Moreland Hills, Village of, Cuyahoga County | 390118 | June 30, 1975, Emerg; June 1, 1979, Reg; December 3, 2010, Susp. | ......do | do.
North Olmsted, City of, Cuyahoga County | 390120 | December 2, 1974, Emerg; September 5, 1979, Reg; December 3, 2010, Susp. | ......do | do.
Oakwood, Village of, Cuyahoga County | 390122 | July 3, 1975, Emerg; March 2, 1979, Reg; December 3, 2010, Susp. | ......do | do.
Olmsted Falls, City of, Cuyahoga County | 390672 | July 29, 1975, Emerg; June 1, 1979, Reg; December 3, 2010, Susp. | ......do | do.
Orange, Village of, Cuyahoga County | 390737 | February 16, 1977, Emerg; February 4, 1983, Reg; December 3, 2010, Susp. | ......do | do.
Parma Heights, City of, Cuyahoga County | 390124 | January 24, 1975, Emerg; August 17, 1981, Reg; December 3, 2010, Susp. | ......do | do.
Parma, City of, Cuyahoga County | 390123 | April 10, 1975, Emerg; August 17, 1981, Reg; December 3, 2010, Susp. | ......do | do.
Pepper Pike, City of, Cuyahoga County | 390125 | January 29, 1975, Emerg; August 17, 1981, Reg; December 3, 2010, Susp. | ......do | do.
Richmond Heights, City of, Cuyahoga County | 390126 | November 13, 1975, Emerg; January 4, 1985, Reg; December 3, 2010, Susp. | ......do | do.
Seven Hills, City of, Cuyahoga County | 390128 | July 30, 1975, Emerg; June 1, 1979, Reg; December 3, 2010, Susp. | ......do | do.
Shaker Heights, City of, Cuyahoga County | 390129 | October 28, 1975, Emerg; June 15, 1981, Reg; December 3, 2010, Susp. | ......do | do.
Solon, City of, Cuyahoga County | 390130 | July 28, 1975, Emerg; February 4, 1981, Reg; December 3, 2010, Susp. | ......do | do.
South Euclid, City of, Cuyahoga County | 390131 | August 5, 1974, Emerg; August 17, 1981, Reg; December 3, 2010, Susp. | ......do | do.
Strongsville, City of, Cuyahoga County | 390132 | December 13, 1974, Emerg; January 3, 1979, Reg; December 3, 2010, Susp. | ......do | do.
Valley View, Village of, Cuyahoga County | 390134 | September 26, 1975, Emerg; February 18, 1981, Reg; December 3, 2010, Susp. | ......do | do.
Walton Hills, Village of, Cuyahoga County | 390636 | December 29, 1975, Emerg; February 18, 1981, Reg; December 3, 2010, Susp. | ......do | do.
Warrensville Heights, City of, Cuyahoga County | 390135 | July 7, 1975, Emerg; August 17, 1981, Reg; December 3, 2010, Susp. | ......do | do.
Westlake, City of, Cuyahoga County | 390136 | July 29, 1975, Emerg; January 16, 1980, Reg; December 3, 2010, Susp. | ......do | do.
Region VI
Arkansas:
Crawford County, Unincorporated Areas | 050428 | June 29, 1990, Emerg; August 5, 1991, Reg; December 3, 2010, Susp. | ......do | do.
Gassville, City of, Baxter County | 050243 | January 26, 1976, Emerg; November 6, 2008, Reg; December 3, 2010, Susp. | ......do | do.
Howard County, Unincorporated Areas | 050438 | March 17, 1983, Emerg; September 30, 1988, Reg; December 3, 2010, Susp. | ......do | do.
Mineral Springs, City of, Howard County | 050349 | May 30, 1975, Emerg; June 1, 1987, Reg; December 3, 2010, Susp. | ......do | do.
Mountain Home, City of, Baxter County | 050351 | February 9, 1976, Emerg; September 16, 1982, Reg; December 3, 2010, Susp. | ......do | do.
Norfork, City of, Baxter County | 050267 | June 2, 1976, Emerg; July 1, 1987, Reg; December 3, 2010, Susp. | ......do | do.
Salesville, City of, Baxter County | 050579 | August 14, 1989, Emerg; April 16, 1990, Reg; December 3, 2010, Susp. | ......do | do.
New Mexico: Las Vegas, City of, San Miguel County | 350068 | August 11, 1975, Emerg; September 18, 1986, Reg; December 3, 2010, Susp. | ......do | do.
Texas:
Gonzales, City of, Gonzales County | 480254 | August 6, 1975, Emerg; June 15, 1979, Reg; December 3, 2010, Susp. | ......do | do.
Gonzales County, Unincorporated Areas | 480253 | November 8, 1973, Emerg; August 15, 1978, Reg; December 3, 2010, Susp. | ......do | do.
Nixon, City of, Gonzales and Wilson Counties | 481114 | March 9, 1976, Emerg; August 26, 1977, Reg; December 3, 2010, Susp. | ......do | do.
Waelder, City of, Gonzales County | 480255 | June 17, 1975, Emerg; December 1, 1977, Reg; December 3, 2010, Susp. | ......do | do.
*-do- = Ditto.
Code for reading third column: Emerg.—Emergency; Reg.—Regular; Susp.—Suspension.

Dated: November 16, 2010.
Sandra K. Knight,
Deputy Federal Insurance and Mitigation Administrator, Mitigation.

[FR Doc. 2010-29418 Filed 11-22-10; 8:45 am]

BILLING CODE 9110-12-P